DEPARTMENT OF HOUSING AND URBAN DEVELOPMENT

[Docket No. FR-4936-N-02]

Notice of Regulatory Waiver Requests Granted for the Second Quarter of Calendar Year 2004

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2004, and ending on June 30, 2004.

FOR FURTHER INFORMATION CONTACT: For general information about this notice, contact Aaron Santa Anna, Assistant General Counsel for Regulations, Room 10276, Department of Housing and Urban Development, 451 Seventh Street, SW., Washington, DC 20410-0500, telephone (202) 708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2004.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from April 1, 2004, through June 30, 2004. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both §§ 58.73 and 58.74 would appear sequentially in the listing under § 58.73.

Waiver of regulations that involve the same initial regulatory citation are in time sequence beginning with the earliest-dated regulatory waiver.

Should HUD receive additional information about waivers granted during the period covered by this report before the next report is published, the next updated report (which will be for the period July 1, 2004 through September 30, 2004) will include these earlier waivers that were granted, as well as those that occurred during April 1, 2004, through June 30, 2004.

Accordingly, information about approved waiver requests pertaining to HUD regulations is provided in the Appendix that follows this notice.

Dated: October 28, 2004.
Kathleen D. Koch,
Acting General Counsel.

Appendix—Listing of Waivers of Regulatory Requirements Granted by Offices of the Department of Housing and Urban Development April 1, 2004, Through June 30, 2004

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Fair Housing and Equal Opportunity.

III. Regulatory waivers granted by the Office of Housing.

IV. Regulatory waivers granted by the Office of Public and Indian Housing.

I. Regulatory Waivers Granted by the Office of Community Planning and Development

For further information about the following regulatory waivers, please see the name of the contact person that immediately follows the description of the waiver granted.

• Regulation: 24 CFR 92.503(b)(1).

Project/Activity: The City of Amarillo, Texas, requested a waiver of the HOME Program repayment requirement for foreclosed properties, as established at 24 CFR 92.503(b)(1).

Nature of Requirement: Section 92.503(b)(1) requires the grantee to repay funds when invested in a homebuyer project that does not meet the affordability requirement for the period specified in 24 CFR 92.254 of the HOME regulations.

Granted by: Roy A. Bernardi, Assistant Secretary for Community Planning and Development.

Date Granted: May 19, 2004.

Reasons Waived: Participating jurisdictions have very limited ability to prevent foreclosures of owner-occupied properties. The City of Amarillo was unaware that its program design potentially obligated it to repay all or a portion of the HOME funds that it provided to a homebuyer in the event of foreclosure, requiring the city to make such repayments for properties under its original program design would constitute a hardship. The potential hardship to the city justified good cause for granting the waiver.

Contact: Virginia Sardone, Office of Affordable Housing, Department of Housing and Urban Development, 451 Seventh Street, SW., Washington, DC 20410-5000, telephone (202) 708-2470.

II. Regulatory Waivers Granted by the Office of Fair Housing and Equal Opportunity

For further information about the following regulatory waivers, please see the name of the contact person that immediately follows the description of the waiver granted.

• Regulation: 24 CFR 135.38.

Project/Activity: City of Watsonville, California, Public Parking Facility and Community Planning and Development funded assistance.

Nature of Requirement: The work to be performed under a contract for this project, which funded by HUD assistance, is subject to the requirements of section 3 of the Housing and Urban Development Act of 1968 in section 3 of HUD's regulations in 24 CFR part 135. The purpose of section 3 is to ensure that employment and other economic opportunities generated by HUD assistance or HUD-assisted projects covered by section 3, shall, to the greatest extent feasible, be directed to low- and very-low income persons, particularly persons who are recipients of HUD assistance for housing. Section 135.38 of HUD's regulations requires all section 3 contracts to include a clause that reflects compliance with section 3.

Granted by: Carolyn Y. Peoples, Assistant Secretary for Fair Housing and Equal Opportunity.

Date Granted: April 5, 2004.

Reason Waived: The City of Watsonville, a Community Development Block Grant (CDBG) entitlement city was in jeopardy of losing $2.75 million dollar grant from the United States Department of Commerce's Economic Development Administration (EDA) for a public parking structure in downtown Watsonville. This was an issue because EDA took the position that the inclusion of the section 3 clause in the construction contracts would conflict with its procurement regulations and stated that it would not approve the City of Watsonville's procurement document if they include the section 3 clause. Because of the exigent circumstances outlined in the waiver request and the considerable harm that would have resulted to the City of Watsonville, the waiver was granted.

Contact: Linda J. Thompson, Director of Office of Economic Opportunity, Office of Fair Housing and Equal Opportunity, Department of Housing and Urban Development, 451 Seventh Street, SW., Washington, DC 20410-2000, telephone (202) 708-6385.

III. Regulatory Waivers Granted by the Office of Housing

For further information about the following regulatory waivers, please see the name of the contact person that immediately follows the description of the waiver granted.

• Regulation: 24 CFR 5.801.

Project/Activity: United Manor Apartments, Tarboro, NC, Project Number: 053-35018.

Nature of Requirement: Section 5.801 governs the submission of the financial statements for multifamily properties receiving HUD assistance.

Granted by: John C. Weicher, Assistant Secretary for Housing—Federal Housing Commissioner.

Date Granted: May 21, 2004.

Reason Waived: The property was under construction with a certificate of occupancy anticipated for June 2004. The submission of the Fiscal Year 2003 financial statement was waived because the property was not in operation during that fiscal year.

Contact: Beverly J. Miller, Director, Office of Asset Management, Department of Housing and Urban Development, 451 Seventh Street, SW., Washington, DC 20410-7000, telephone (202) 708-3730.

• Regulation: 24 CFR 236.725(e)(2).

Project/Activity: Oakview Apartments, Millville, NJ, Project Number: 031-001N1.

Nature of Requirement: Section 236.725 limits the term of the rental assistance contract to the term of the mortgage or 40 years from the date of the first payment made under the contract, whichever is the lesser.

Granted by: John C. Weicher, Assistant Secretary for Housing—Federal Housing Commissioner.

Date Granted: June 18, 2004.

Reason Waived: The regulation was waived because it was determined that the project could be maintained as an affordable housing resource to the maturity date of the non-insured Section 236 mortgage plus an additional five years through the execution and recording of a Decoupling Use Agreement.

Contact: Beverly J. Miller, Director, Office of Asset Management, Department of Housing and Urban Development, 451 Seventh Street, SW., Washington, DC 20410-7000, telephone (202) 708-3730.

• Regulation: 24 CFR 290.30(a).

Project/Activity: Hilltop Gardens, Danville, VA, Project Number: 051-EH162.

Nature of Requirement: Section 290.30(a) requires that HUD-held multifamily mortgages be sold on a competitive basis, except for certain “negotiated” sales to state or local governments.

Granted by: John C. Weicher, Assistant Secretary for Housing—Federal Housing Commissioner.

Date Granted: June 8, 2004.

Reason Waived: The sale of the note of Roman Eagle Properties, Inc., to Roman Eagle Memorial Home was determined more beneficial to the community than a competitive note sale because it ensures a local, continuing involvement in the facility and would give the residents a greater feeling of stability in that the original sponsor would continue to be very much involved in the property and dedicated to the principles sought in the property when the original financing was secured from HUD in 1991.

Contact: Beverly J. Miller, Director, Office of Asset Management, Department of Housing and Urban Development, 451 Seventh Street, SW., Washington, DC 20410-7000, telephone (202) 708-3730.

• Regulation: 24 CFR 401.600.

Project/Activity: The following projects requested waivers to the 12-month limitation imposed on above-market rents (24 CFR 401.600):

FHA Number | Project | City | State
4735109 | Bedford Manor Apartments | BATTLE CREEK | MI
5494002 | Colony Apts | COLUMBIA | SC
10135343 | Creekside Gardens | LOVELAND | CO
8335351 | Cumberland Manor Apartments | CUMBERLAND | KY
7135648 | Cyril Court Apartments | CHICAGO | IL
4735110 | East Glen Apartments | EAST LANSING | MI
5335448 | Gateway Village | HILLSBOROUGH | NC
8435256 | Granada Villa | BELTON | MO
9135083 | Lakeview Apartments | EUREKA | SD
5435475 | Lancaster Manor Apartments | LANCASTER | SC
7335444 | Laurel Woods Apartments | SOUTH BEND | IN
6435241 | Livingston Manor Apartments | DENHAM SPRINGS | LA
5235370 | Monterey Apartments | BALTIMORE | MD
5344119 | Oak Hill Apartments | WADESBORO | NC
6435243 | Oakwood Apartments | LEESVILLE | LA
35168 | Parkchester I Apartments | WASHINGTON | DC
9435040 | Patterson Place | BISMARCK | ND
10292501 | Plaza Apartments | COFFEYVILLE | KS
5435489 | Prescott Manor | COLUMBIA | SC
6535026 | St. Francis Apartments | MERIDIAN | MS
3435190 | Strawberry Patch | WHITEHALL | PA
8635186 | Sunset Village Apartments | CLARKSVILLE | TN
11435034 | Union Acres Apartments | CENTER | TX
5235362 | Upton Druid Apartments | BALTIMORE | MD
12235495 | Valley View Apartments | DELANO | CA
1335118 | Village Point Apartments | NEW HARTFORD | NY
8335324 | Virginia Apartments | LOUISVILLE | KY
5335371 | Virginia Dare Apartments | ELIZABETH CITY | NC
5435499 | Winnfield West Apartments | WINNSBORO | SC

Nature of Requirement: Section 401.600 requires that projects be marked down to market rents within 12 months of their first expiration date after January 1, 1998. The intent of this provision is to ensure timely processing of requests for restructuring, and that the properties will not default on their Federal Housing Administration (FHA) insured mortgages during the restructuring process.

Granted by: John C. Weicher, Assistant Secretary for Housing—Federal Housing Commissioner.

Date Granted: April 27, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waivers to the 12-month limitation imposed on above-market rents (24 CFR 401.600):

FHA Number | Project | City | State
4635374 | Addy Square | ADDYSTON | OH
1257295 | Aldus I (aka Faile Street) | BRONX | NY
3135233 | Aspen Hamilton Apartments | PATERSON | NJ
5235350 | Barclay Greenmount | BALTIMORE | MD
6535353 | Bennie S. Gooden Estates | CLARKSDALE | MS
4235378 | Boardwalk Apartments | CLEVELAND | OH
7135482 | Bryn Mawr Apartments | CHICAGO | IL
12235565 | Buckingham Apartments | LOS ANGELES | CA
5335452 | Carriage House Apartments | ENFIELD | NC
5235359 | Charles Landing South | INDIAN HEAD | MD
3335146 | Coraopolis Gardens | CORAOPOLIS | PA
6135325 | Dempsey Apartments | MACON | GA
1235566 | Ellenville Urban Renew Hsg (aka Canal Lock Apts) | ELLENVILLE | NY
7135492 | Evergreen Terrace II (aka Buff Plaza) | JOLIET | IL
11435351 | Fox Run Apartments | ORANGE | TX
3435194 | Freeland III Housing | FREELAND | PA
11435266 | Heritage Square | TEXAS CITY | TX
8235231 | Hicky Garden Apartments | MARIANNA | AR
1257289 | Hunts Point I Rehab Project | BRONX | NY
8735141 | Ivy Avenue Apartments | CROSSVILLE | TN
3435201 | Lancaster Apartments | LANCASTER | PA
8135187 | Lexington Village Apartments | LEXINGTON | TN
5335455 | Liberty Village Apartments | LIBERTY | NC
6635161 | Lincoln Fields Apartments | MIAMI | FL
11635110 | Lintero Apartments | SILVER CITY | NM
8335382 | Lynn Acres Apartments | SHELBYVILLE | KY
5335402 | Meadow Woods Apartments | FAIRMONT | NC
5435482 | Northbridge Court | MONCKS CORNER | SC
11635101 | Northgate Village Apartments | FARMINGTON | NM
11335069 | River Park Village Apartments | LAMPASAS | TX
8335381 | Rivertown Apartments | LOUISVILLE | KY
6335203 | The Oaks Apartments | SAINT AUGUSTINE | FL
3335147 | Verona Gardens | VERONA | PA
5235367 | Windsor Gardens | FREDERICK | MD
7335464 | Woodland East Apartments III | MICHIGAN CITY | IN

Nature of Requirement: Section 401.600 requires that projects be marked down to market rents within 12 months of their first expiration date after January 1, 1998. The intent of this provision is to ensure timely processing of requests for restructuring, and that the properties will not default on their FHA insured mortgages during the restructuring process.

Granted by: John C. Weicher, Assistant Secretary for Housing—Federal Housing Commissioner.

Date Granted: May 19, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856, extension 3786.

• Regulation: 24 CFR 401.600.

Project/Activity: The following projects requested waivers to the 12-month limitation imposed on above-market rents (24 CFR 401.600):

FHA Number | Project | City | State
7135480 | 325 North Austin Apartments | CHICAGO | IL
2435060 | Bartlett Court | LEWISTON | ME
4335289 | Beasley Mills Apartments | ATHENS | OH
1635071 | Broadway West Broadway | NEWPORT | RI
13344039 | Childress Manor | CHILDRESS | TX
4535139 | Circle Brook Apartments | COWEN | WV
13335057 | Garden Apartments | LUBBOCK | TX
11635104 | Gatewood Village Apts. | CLOVIS | NM
6535352 | Higgins McLaurin Arms Apartments | CLARKSDALE | MS
1257289 | Hunts Point I Rehab Project | BRONX | NY
6235389 | Roosevelt Manor | BIRMINGHAM | AL
2332046 | St. Alfio's Villa | LAWRENCE | MA

Nature of Requirement: Section 401.600 requires that projects be marked down to market rents within 12 months of their first expiration date after January 1, 1998. The intent of this provision is to ensure timely processing of requests for restructuring, and that the properties will not default on their FHA insured mortgages during the restructuring process.

Granted by: John C. Weicher, Assistant Secretary for Housing—Federal Housing Commissioner.

Date Granted: June 18, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.461.

Project/Activity: The following projects requested waivers to the simple interest requirement on the second mortgage to allow compound interest at the applicable federal rate in 24 CFR 401.461.

FHA Number | Project | City | State
04635113 | Washington Park Apartments | CINCINNATI | OH
04235384 | The Plaza | TOLEDO | OH

Nature of Requirement: Section 401.461 requires that the second mortgages have an interest rate not more than the applicable federal rate. Section 401.461(b)(1) states that interest will accrue but not compound. The intent of simple interest instead of compound interest is to limit the size of the second mortgage accruals to increase the likelihood of long-term financial and physical integrity.

Granted by: John C. Weicher, Assistant Secretary for Housing—Federal Housing Commissioner.

Date Granted: May 26, 2004.

Reason Waived: This regulatory restriction would be construed as a form of federal subsidy, thereby creating a loss of tax credit equity. The loss would have adversely affected the ability to close the restructuring plan and could cause the loss or deterioration of these affordable housing projects. Therefore, compound interest was necessary for the owner to obtain Low Income Housing Tax Credits under favorable terms and in order to maximize the savings to the federal government.

Contact: Dennis Manning, Office of Multifamily Housing Assistance Restructuring, Department of Housing and Urban Development, Portals Building, Suite 400, 1280 Maryland Avenue, SW., Washington, DC 20410-8000 telephone (202) 708-3856.

• Regulation: 24 CFR 883.306(b)(1).

Project/Activity: Ashland/Dellwood Apartments, Cambridge, MN, Project Number: MN46-H162—MHFA #80-092.

Nature of Requirement: Section 883.306 restricts distribution on state agency administered Section 8 projects. Section 883.306(b)(1) provides that, for projects for elderly families, the first year's distribution will be limited to six percent on equity.

Granted by: John C. Weicher, Assistant Secretary for Housing—Federal Housing Commissioner.

Date Granted: June 10, 2004.

Reason Waived: The Minnesota Housing Finance Agency (MHFA) negotiated and secured from the owner of Dellwood a commitment to remain in the Section 8 program for 10 years beyond its current commitment in return for an adjustment in allowable distribution consistent with that available to smaller projects in the MHFA portfolio. The terms of the Dellwood's negotiations were the same as imposed on the other MHFA bond financed Section 8 assisted projects that were provided a waiver permitting MHFA to continue to collect override and contract administration fees.

Contact: Beverly J. Miller, Director, Office of Asset Management, Department of Housing and Urban Development, 451 Seventh Street, SW., Washington, DC 20410-7000, telephone (202) 708-3730.

• Regulation: 24 CFR 883.606(b).

Project/Activity: District of Columbia Housing Finance Agency's (DCHFA) Series 1998 and Series 1999 Multifamily Mortgage Revenue Refunding Bonds, Washington, DC.

Nature of Requirement: Part 883 of HUD's regulations in 24 CFR regulates the section 8 housing assistance payments contracts administered by state housing agencies. Under § 883.606(b), an agency administering a contract on newly constructed or substantially rehabilitated units is entitled to a reasonable fee, determined by HUD, provided there is no override on the permanent loan granted by the agency to the owner for a project containing assisted units.

Granted by: John C. Weicher, Assistant Secretary for Housing—Federal Housing Commissioner.

Date Granted: April 2, 2004.

Reason Waived: HUD overlooked issuance of its waiver of the regulatory prohibition during its review and approval of this transaction. The fee income is used to support the DCHFA's affordable housing programs.

Contact: Beverly J. Miller, Director, Office of Asset Management, Department of Housing and Urban Development, 451 Seventh Street, SW., Washington, DC 20410-7000, telephone (202) 708-3730.

• Regulation: 24 CFR 883.606(b).

Project/Activity: Maine State Housing Authority (MSHA) application for bond refunding proposal and the enforcement of a regulatory prohibition of the collection of both contract administration fees and bond yield override in connection with the same project.

Nature of Requirement: Part 883 of HUD's regulations in 24 CFR regulates the section 8 housing assistance payments contracts administered by state housing agencies. Under § 883.6.6(b), an agency administering a contract on newly constructed or substantially rehabilitated units is entitled to a reasonable fee, determined by HUD, provided there is no override on the permanent loan granted by the agency to the owner for a project containing assisted units.

Granted by: John C. Weicher, Assistant Secretary for Housing—Federal Housing Commissioner.

Date Granted: April 2, 2004.

Reason Waived: HUD neglected to issue a waiver of the regulatory prohibition during its review and approval of this transaction. The fee income is used to support the HFA's affordable housing programs.

Contact: Beverly J. Miller, Director, Office of Asset Management, Department of Housing and Urban Development, 451 Seventh Street, SW., Washington, DC 20410-7000, telephone (202) 708-3730.

• Regulation: 24 CFR 891.100(d).

Project/Activity: NCR of Harborcreek, Harborcreek, PA, Project Number: 033-EE105/PA28-S001-003.

Nature of Requirement: Section 891.100(d) prohibits amendment of the amount of the approved capital advance funds prior to initial closing.

Granted by: John C. Weicher, Assistant Secretary for Housing—Federal Housing Commissioner.

Date Granted: April 1, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Wofford Park, Hattiesburg, MS, Project Number: 065-HD029/MS26-Q021-002.

Nature of Requirement: Section 891.100(d) prohibits amendment of the amount of the approved capital advance funds prior to initial closing.

Granted by: John C. Weicher, Assistant Secretary for Housing—Federal Housing Commissioner.

Date Granted: April 1, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Neumann Senior Housing, Philadelphia, PA, Project Number: 034-EE118/PA26-S011-008.

Nature of Requirement: Section 891.100(d) prohibits amendment of the amount of the approved capital advance funds prior to initial closing.

Granted by: John C. Weicher, Assistant Secretary for Housing—Federal Housing Commissioner.

Date Granted: April 8, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Arcadia Commons, Albany, GA, Project Number: 061-EE110/GA06-S021-002.

Nature of Requirement: Section 891.100(d) prohibits amendment of the amount of the approved capital advance funds prior to initial closing.

Granted by: John C. Weicher, Assistant Secretary for Housing—Federal Housing Commissioner.

Date Granted: April 9, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: East Pittsburgh Commons, East Pittsburgh, PA, Project Number: 033-HD077/PA28-Q021-005.

Nature of Requirement: Section 891.100(d) prohibits amendment of the amount of the approved capital advance funds prior to initial closing.

Granted by: John C. Weicher, Assistant Secretary for Housing—Federal Housing Commissioner.

Date Granted: April 9, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Garrett Road Apartments, Monroe, LA, Project Number: 064-HD070/LA48-Q021-003.

Nature of Requirement: Section 891.100(d) prohibits amendment of the amount of the approved capital advance funds prior to initial closing.

Granted by: John C. Weicher, Assistant Secretary for Housing—Federal Housing Commissioner.

Date Granted: April 9, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hoover Supportive Housing Development, Hoover, AL, Project Number: 062-HD041/AL09-Q981-004.

Nature of Requirement: Section 891.100(d) prohibits amendment of the amount of the approved capital advance funds prior to initial closing.

Granted by: John C. Weicher, Assistant Secretary for Housing—Federal Housing Commissioner.

Date Granted: April 14, 2004.

Reason Waived: The project is economically designed, comparable in cost to similar projects in the area, and the sponsor exhausted all efforts to obtain the funds through other sources.

Contact: Willie Spearmon, Director, Office of Housing Assistance and Grant Administration, Department of Housing and Urban Development, 451 Seventh Street, SW., Washington, DC 20410-8000, telephone (202) 708-3000.

• Regulation: 24 CFR 891.100(d).

Project/Activity: Independent Living Horizons VIII, Augusta, GA, Project Number: 061-EE112/GA06-S021-004.

Nature of Requirement: Section 891.100(d) prohibits amendment of the amount of the approved capital advance funds prior to initial closing.

Granted by: John C. Weicher, Assistant Secretary for Housing—Federal Housing Commissioner.

Date Granted: April 16, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: West Kingsbridge Senior Housing, New York—Bronx, NY, Project Number: 012-EE212/NY36-S961-030.

Nature of Requirement: Section 891.100(d) prohibits amendment of the amount of the approved capital advance funds prior to initial closing.

Granted by: John C. Weicher, Assistant Secretary for Housing—Federal Housing Commissioner.

Date Granted: April 20, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: West Brighton Seniors, Brighton, NY, Project Number: 014-EE206/NY06-S011-005.

Nature of Requirement: Section 891.100(d) prohibits amendment of the amount of the approved capital advance funds prior to initial closing.

Granted by: John C. Weicher, Assistant Secretary for Housing—Federal Housing Commissioner.

Date Granted: April 22, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Franklin Street Residence, Westfield, MA, Project Number: 023-HD187/MA06-Q021-005.

Nature of Requirement: Section 891.100(d) prohibits amendment of the amount of the approved capital advance funds prior to initial closing.

Granted by: John C. Weicher, Assistant Secretary for Housing—Federal Housing Commissioner.

Date Granted: April 28, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Spruce Landing, Kansas City, MO, Project Number: 084-HD036/MO16-Q01-001.

Nature of Requirement: Section 891.100(d) prohibits amendment of the amount of the approved capital advance funds prior to initial closing.

Granted by: John C. Weicher, Assistant Secretary for Housing—Federal Housing Commissioner.

Date Granted: April 28, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Brush Hill, Yarmouth, MA, Project Number: 023-HD182/MA06-Q011-010.

Nature of Requirement: Section 891.100(d) prohibits amendment of the amount of the approved capital advance funds prior to initial closing.

Granted by: John C. Weicher, Assistant Secretary for Housing—Federal Housing Commissioner.

Date Granted: April 30, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: ASI—Fargo, Fargo, ND, Project Number: 094-HD009/ND99-Q011-001.

Nature of Requirement: Section 891.100(d) prohibits amendment of the amount of the approved capital advance funds prior to initial closing.

Granted by: John C. Weicher, Assistant Secretary for Housing—Federal Housing Commissioner.

Date Granted: May 3, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Westover Cove, Alvin, TX, Project Number: 114-HD026/TX24-Q021-005.

Nature of Requirement: Section 891.100(d) prohibits amendment of the amount of the approved capital advance funds prior to initial closing.

Granted by: John C. Weicher, Assistant Secretary for Housing—Federal Housing Commissioner.

Date Granted: May 3, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Jubilee House, Wellesley, MA, Project Number: 023-HD159/MA06-Q991-007.

Nature of Requirement: Section 891.100(d) prohibits amendment of the amount of the approved capital advance funds prior to initial closing.

Granted by: John C. Weicher, Assistant Secretary for Housing—Federal Housing Commissioner.

Date Granted: May 5, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Presbyterian Oaks II, Talladega, AL, Project Number: 062-EE054/AL09-S021-001.

Nature of Requirement: Section 891.100(d) prohibits amendment of the amount of the approved capital advance funds prior to initial closing.

Granted by: John C. Weicher, Assistant Secretary for Housing—Federal Housing Commissioner.

Date Granted: May 7, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Village Woods II, York, ME, Project Number: 024-EE065/ME36-S021-001.

Nature of Requirement: Section 891.100(d) prohibits amendment of the amount of the approved capital advance funds prior to initial closing.

Granted by: John C. Weicher, Assistant Secretary for Housing—Federal Housing Commissioner.

Date Granted: May 7, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Mystic Valley Elder Services, Wakefield, MA, Project Number: 023-EE158/MA06-S021-009.

Nature of Requirement: Section 891.100(d) prohibits amendment of the amount of the approved capital advance funds prior to initial closing.

Granted by: John C. Weicher, Assistant Secretary for Housing—Federal Housing Commissioner.

Date Granted: May 11, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Dominic Place, New Iberia, LA, Project Number: 064-EE140/LA48-S021-007.

Nature of Requirement: Section 891.100(d) prohibits amendment of the amount of the approved capital advance funds prior to initial closing.

Granted by: John C. Weicher, Assistant Secretary for Housing—Federal Housing Commissioner.

Date Granted: May 11, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Genesee, Seattle, WA, Project Number: 127-HD028/WA19-Q011-001.

Nature of Requirement: Section 891.100(d) prohibits amendment of the amount of the approved capital advance funds prior to initial closing.

Granted by: John C. Weicher, Assistant Secretary for Housing—Federal Housing Commissioner.

Date Granted: May 13, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: American Training, Inc., North Andover, MA, Project Number: 023-HD189/MA06-Q021-007.

Nature of Requirement: Section 891.100(d) prohibits amendment of the amount of the approved capital advance funds prior to initial closing.

Granted by: John C. Weicher, Assistant Secretary for Housing—Federal Housing Commissioner.

Date Granted: May 17, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Central Middlesex Association for Retarded Citizens (CMARC), Woburn, MA, Project Number: 023-HD186/MA06-Q021-004.

Nature of Requirement: Section 891.100(d) prohibits amendment of the amount of the approved capital advance funds prior to initial closing.

Granted by: John C. Weicher, Assistant Secretary for Housing—Federal Housing Commissioner.

Date Granted: May 17, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Family Services of Western Pennsylvania GLI, Sarver, PA, Project Number: 033-HD063/PA28-Q011-001.

Nature of Requirement: Section 891.100(d) prohibits amendment of the amount of the approved capital advance funds prior to initial closing.

Granted by: John C. Weicher, Assistant Secretary for Housing—Federal Housing Commissioner.

Date Granted: May 17, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Creative Living, Andover, MA, Project Number: 023-HD174/MA06-Q011-002.

Nature of Requirement: Section 891.100(d) prohibits amendment of the amount of the approved capital advance funds prior to initial closing.

Granted by: John C. Weicher, Assistant Secretary for Housing—Federal Housing Commissioner.

Date Granted: May 19, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Chestnut Park Apartments, Norfolk, NE, Project Number: 103-HD028/NE26-Q021-001.

Nature of Requirement: Section 891.100(d) prohibits amendment of the amount of the approved capital advance funds prior to initial closing.

Granted by: John C. Weicher, Assistant Secretary for Housing—Federal Housing Commissioner.

Date Granted: May 20, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Turning Point, Inc., Salem, MA, Project Number: 023-HD183/MA06-Q021-001.

Nature of Requirement: Section 891.100(d) prohibits amendment of the amount of the approved capital advance funds prior to initial closing.

Granted by: John C. Weicher, Assistant Secretary for Housing—Federal Housing Commissioner.

Date Granted: May 20, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: BCARC Home IV, Inc., Palm Bay, FL, Project Number: 067-HD086/FL29-Q011-006.

Nature of Requirement: Section 891.100(d) prohibits amendment of the amount of the approved capital advance funds prior to initial closing.

Granted by: John C. Weicher, Assistant Secretary for Housing—Federal Housing Commissioner.

Date Granted: May 26, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bishop B. Martin Senior Housing, Brooklyn, NY, Project Number: 012-EE323/NY36-S021-004.

Nature of Requirement: Section 891.100(d) prohibits amendment of the amount of the approved capital advance funds prior to initial closing.

Granted by: John C. Weicher, Assistant Secretary for Housing—Federal Housing Commissioner.

Date Granted: May 26, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hall Commons, Brigeport, CT, Project Number: 017-Ee063/CT26-S001-006.

Nature of Requirement: Section 891.100(d) prohibits amendment of the amount of the approved capital advance funds prior to initial closing.

Granted by: John C. Weicher, Assistant Secretary for Housing—Federal Housing Commissioner.

Date Granted: May 26, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Whalley Avenue Housing II, New Haven, CT, Project Number: 017-HD031/CT26-Q011-003.

Nature of Requirement: Section 891.100(d) prohibits amendment of the amount of the approved capital advance funds prior to initial closing.

Granted by: John C. Weicher, Assistant Secretary for Housing—Federal Housing Commissioner.

Date Granted: May 26, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Peaks Island VOA Elderly Housing, Peaks Island, ME, Project Number: 024-EE-58/ME36-S011-001.

Nature of Requirement: Section 891.100(d) prohibits amendment of the amount of the approved capital advance funds prior to initial closing.

Granted by: John C. Weicher, Assistant Secretary for Housing—Federal Housing Commissioner.

Date Granted: May 28, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Pathways Vision, Greenwich, CT, Project Number: 017-HD022/CT26-Q9981-001.

Nature of Requirement: Section 891.100(d) prohibits amendment of the amount of the approved capital advance funds prior to initial closing.

Granted by: John C. Weicher, Assistant Secretary for Housing—Federal Housing Commissioner.

Date Granted: June 2, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Lincoln Senior Housing, Derby, CT, Project Number: 017-EE069/CT26-S021-001.

Nature of Requirement: Section 891.100(d) prohibits amendment of the amount of the approved capital advance funds prior to initial closing.

Granted by: John C. Weicher, Assistant Secretary for Housing—Federal Housing Commissioner.

Date Granted: June 4, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Woodside Village VI, Oak Bluffs, MA, Project Number: 013-EE162/MA06-S021-013.

Nature of Requirement: Section 891.100(d) prohibits amendment of the amount of the approved capital advance funds prior to initial closing.

Granted by: John C. Weicher, Assistant Secretary for Housing—Federal Housing Commissioner.

Date Granted: June 16, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Lee Central School Elderly Housing, Lee, MA, Project Number: 023-EE163/MA06-S021-014.

Nature of Requirement: Section 891.100(d) prohibits amendment of the amount of the approved capital advance funds prior to initial closing.

Granted by: John C. Weicher, Assistant Secretary for Housing—Federal Housing Commissioner.

Date Granted: June 18, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: John Marvin Tower, Augusta, ME, Project Number: 025-EE067/ME36-S021-002.

Nature of Requirement: Section 891.100(d) prohibits amendment of the amount of the approved capital advance funds prior to initial closing.

Granted by: John C. Weicher, Assistant Secretary for Housing—Federal Housing Commissioner.

Date Granted: June 21, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Salvation Army Missoula Silvercrest, Missoula, MT, Project Number: 093-EE010/MT99-S011-002.

Nature of Requirement: Section 891.100(d) prohibits amendment of the amount of the approved capital advance funds prior to initial closing.

Granted by: John C. Weicher, Assistant Secretary for Housing—Federal Housing Commissioner.

Date Granted: June 24, 2004.

Reason Waived: The project is economically designed and comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Stillwater Heights, Burrillville, RI, Project Number: 061-EE049/RI43-S021-006.

Nature of Requirement: Section 891.100(d) prohibits amendment of the amount of the approved capital advance funds prior to initial closing.

Granted by: John C. Weicher, Assistant Secretary for Housing—Federal Housing Commissioner.

Date Granted: June 29, 2004.

Reason Waived: The project is economically designed and comparable in cost to similar projects in the area, and the sponsor exhausted all efforts to obtain additional funding from other sources, and there were increased costs associated with required design features since the project is located next to the National Register Historic district.

Contact: Willie Spearmon, Director, Office of Housing Assistance and Grant Administration, Department of Housing and Urban Development, 451 Seventh Street, SW., Washington, DC 20410-8000, telephone (202) 708-3000.

• Regulation: 24 CFR 891.165.

Project/Activity: Lincoln Street Apartments, Marlboro, MA, Project Number: 023-HD162/MA06-Q991-010.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 1, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: The Promise Project, Ellenwood, GA, Project Number: 061-EE098/GA06-S001-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 1, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Johnnie B. Moore Towers, Atlanta, GA, Project Number: 061-EE094/GA06-S001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 2, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Cornhill Apartments, Rochester, NY, Project Number: 014-HD099/NY06-Q001-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 6, 2004.

Reason Waived: Additional time was needed due to delays resulting from the Phase II Environmental Site Assessment, and additional time was needed to submit and review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Kona Group Home (FKA Molokai Group Home), Kaunakakai, HI, Project Number: 140-HD028/HI10-Q001-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 6, 2004.

Reason Waived: Additional time was needed to locate a site.

Contact: Willie Spearmon, Director, Office of Housing Assistance and Grant Administration, Department of Housing and Urban Development, 451 Seventh Street, SW., Washington, DC 20410-8000, telephone (202) 708-3000.

• Regulation: 24 CFR 891.165.

Project/Activity: Luther Ridge, Middletown, CT, Project Number: 017-EE053/CT26-S991-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 6, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Daisy House, Rochester, NY, Project Number: 014-EE208/NY06-S011-007.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 7, 2004.

Reason Waived: Additional time was needed for the sponsor to secure secondary financing and to make the site environmentally acceptable.

Contact: Willie Spearmon, Director, Office of Housing Assistance and Grant Administration, Department of Housing and Urban Development, 451 Seventh Street, SW., Washington, DC 20410-8000, telephone (202) 708-3000.

• Regulation: 24 CFR 891.165.

Project/Activity: Bruch Hill Residences, Yarmouth, MA, Project Number: 023-HD182/MA06-Q011-010.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 9, 2004.

Reason Waived: Additional time was needed to resolve title issues and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Hemlock Nob Estates, Tannersville, NY, Project Number: 014-EE209/NY06-S011-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 9, 2004.

Reason Waived: Additional time was needed for the sponsor to complete its documentation for firm commitment and to proceed to initial closing.

Contact: Willie Spearmon, Director, Office of Housing Assistance and Grant Administration, Department of Housing and Urban Development, 451 Seventh Street, SW., Washington, DC 20410-8000, telephone (202) 708-3000.

• Regulation: 24 CFR 891.165.

Project/Activity: St. Francis Cabrini Gardens, Coram, NY, Project Number: 012-EE288/NY36-S001-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 9, 2004.

Reason Waived: Additional time was needed for the sponsor to revise the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Westmoreland Apartments, Huntington, WV, Project Number: 045-EE017/WV15-S011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 9, 2004.

Reason Waived: Additional time was needed to finalize the cost with the contractor.

Contact: Willie Spearmon, Director, Office of Housing Assistance and Grant Administration, Department of Housing and Urban Development, 451 Seventh Street, SW., Washington, DC 20410-8000, telephone (202) 708-3000.

• Regulation: 24 CFR 891.165.

Project/Activity: West Brighton Seniors, Brighton, NY, Project Number: 014-EE206/NY06-S011-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 16, 2004.

Reason Waived: Additional time was needed for the National Environmental Policy Act (NEPA) review process to be completed, which is required by the state.

Contact: Willie Spearmon, Director, Office of Housing Assistance and Grant Administration, Department of Housing and Urban Development, 451 Seventh Street, SW., Washington, DC 20410-8000, telephone (202) 708-3000.

• Regulation: 24 CFR 891.165.

Project/Activity: Gulfport Manor (Stephen's Country Village, Gulfport, MS, Project Number: 065-EE031/MS26-S001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 20, 2004.

Reason Waived: Additional time was needed to revise plans and cost factors, and to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Villa at Marion Park, Akron, OH, Project Number: 042-EE112/OH12-S991-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 20, 2004.

Reason Waived: Additional time was needed due to local opposition at several sites and to submit a firm commitment application.

Contact: Willie Spearmon, Director, Office of Housing Assistance and Grant Administration, Department of Housing and Urban Development, 451 Seventh Street, SW., Washington, DC 20410-8000, telephone (202) 708-3000.

• Regulation: 24 CFR 891.165.

Project/Activity: McTaggert I, Stow, OH, Project Number: 042-HD089/OH12-Q001-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 22, 2004.

Reason Waived: Additional time was needed due to local opposition at several sites and to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Dina Titus Estates, Las Vegas, NV, Project Number: 125-HD069/NV25-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: April 27, 2004.

Reason Waived: Additional time was needed to prepare the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: North End New Bedford Elderly Housing, New Bedford, MA, Project Number: 023-EE129/MA06-S011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 3, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Positively 3rd Street, New York, NY, Project Number: 012-EE287/NY36-S001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 3, 2004.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: PSCH—Cypress Housing, Queens, NY, Project Number: 012-HD088/NY36-Q981-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 3, 2004.

Reason Waived: Additional time was needed to prepare the closing documents and to secure necessary supplemental funding from the New York State Office of Mental Health (NYSOMH).

Contact: Willie Spearmon, Director, Office of Housing Assistance and Grant Administration, Department of Housing and Urban Development, 451 Seventh Street, SW., Washington, DC 20410-8000, telephone (202) 708-3000.

• Regulation: 24 CFR 891.165.

Project/Activity: Union County Supportive Living, Westfield, NJ, Project Number: 031-HD127/NJ39-Q011-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 3, 2004.

Reason Waived: Additional time was needed to locate an alternate site.

Contact: Willie Spearmon, Director, Office of Housing Assistance and Grant Administration, Department of Housing and Urban Development, 451 Seventh Street, SW., Washington, DC 20410-8000, telephone (202) 708-3000.

• Regulation: 24 CFR 891.165.

Project/Activity: Victory House at Palmer Park, Palmer Park, MD, Project Number: 000-EE056/MD39-S011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 3, 2004.

Reason Waived: Additional time was needed for the Sponsor/Owner to seek additional funding.

Contact: Willie Spearmon, Director, Office of Housing Assistance and Grant Administration, Department of Housing and Urban Development, 451 Seventh Street, SW., Washington, DC 20410-8000, telephone (202) 708-3000.

• Regulation: 24 CFR 891.165.

Project/Activity: Balsam Lake Disabled Housing, Balsam Lake, WI, Project Number: 075-HD069/WI39-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 4, 2004.

Reason Waived: Additional time was needed to obtain approval on the site drainage plan from the county.

Contact: Willie Spearmon, Director, Office of Housing Assistance and Grant Administration, Department of Housing and Urban Development, 451 Seventh Street, SW., Washington, DC 20410-8000, telephone (202) 708-3000.

• Regulation: 24 CFR 891.165.

Project/Activity: Closter Independent Living, Closter, NJ, Project Number: 031-HD126/NJ39-Q011-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 5, 2004.

Reason Waived: Additional time was needed for local approvals.

Contact: Willie Spearmon, Director, Office of Housing Assistance and Grant Administration, Department of Housing and Urban Development, 451 Seventh Street, SW., Washington, DC 20410-8000, telephone (202) 708-3000.

• Regulation: 24 CFR 891.165.

Project/Activity: Community Options Middlesex, Old Bridge, NJ, Project Number: 031-HD111/NJ39-Q001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 5, 2004.

Reason Waived: Additional time was needed to locate an alternate site and to address deficiencies to the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Community Options Siek Road, Butler, NJ, Project Number: 031-HD110/NJ39-Q001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 5, 2004.

Reason Waived: Additional time was needed to secure an alternative site and a different housing consultant.

Contact: Willie Spearmon, Director, Office of Housing Assistance and Grant Administration, Department of Housing and Urban Development, 451 Seventh Street, SW., Washington, DC 20410-8000, telephone (202) 708-3000.

• Regulation: 24 CFR 891.165.

Project/Activity: Delran Consumer Home, Delran, NJ, Project Number: 035-HD046/NJ39-Q001-015.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 5, 2004.

Reason Waived: Additional time was needed to obtain an approvable site.

Contact: Willie Spearmon, Director, Office of Housing Assistance and Grant Administration, Department of Housing and Urban Development, 451 Seventh Street, SW., Washington, DC 20410-8000, telephone (202) 708-3000.

• Regulation: 24 CFR 891.165.

Project/Activity: Hunterdon Consumer Home, East Amwell, NJ, Project Number: 031-HD121/NJ39-Q001-012.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 5, 2004.

Reason Waived: Additional time was needed for the sponsor to seek an alternative site, replace the engineer, and seek secondary financing.

Contact: Willie Spearmon, Director, Office of Housing Assistance and Grant Administration, Department of Housing and Urban Development, 451 Seventh Street, SW., Washington, DC 20410-8000, telephone (202) 708-3000.

• Regulation: 24 CFR 891.165.

Project/Activity: Windham Willows, Windham, NY, Project Number: 014-EE210/NY06-S011-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 6, 2004.

Reason Waived: Additional time was needed to obtain approval of the storm water drainage play from the New York State Department of Engineering and to complete documentation for the firm commitment.

Contact: Willie Spearmon, Director, Office of Housing Assistance and Grant Administration, Department of Housing and Urban Development, 451 Seventh Street, SW., Washington, DC 20410-8000, telephone (202) 708-3000.

• Regulation: 24 CFR 891.165.

Project/Activity: Independence II Consumer Home, Mount Laurel, NJ, Project Number: 035-HD048/NJ39-Q011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 11, 2004.

Reason Waived: Additional time was needed to submit and review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Community Hope VII Consumer Home, Sussex, NJ, Project Number: 031-HD130/NJ39-Q011-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 13, 2004.

Reason Waived: Additional time was needed for the sponsor to locate an alternative site and revise the drawings.

Contact: Willie Spearmon, Director, Office of Housing Assistance and Grant Administration, Department of Housing and Urban Development, 451 Seventh Street, SW., Washington, DC 20410-8000, telephone (202) 708-3000.

• Regulation: 24 CFR 891.165.

Project/Activity: Fayette Hills Unity, Oak Hill, WV, Project Number: 045-HD033/WV15-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 13, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Hemet Ability First, Hemet, CA, Project Number: 122-HD130/CA16-Q001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 14, 2004.

Reason Waived: Additional time was needed to locate an alternative site and to seek additional financing.

Contact: Willie Spearmon, Director, Office of Housing Assistance and Grant Administration, Department of Housing and Urban Development, 451 Seventh Street, SW., Washington, DC 20410-8000, telephone (202) 708-3000.

• Regulation: 24 CFR 891.165.

Project/Activity: NCR of North Fairmount, Cincinnati, OH, Project Number: 046-EE056/OH10-S001-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 14, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: David Coleman Homes, Marion, SC, Project Number: 054-HD095/SC16-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 17, 2004.

Reason Waived: Additional time was needed to process the initial closing package.

Contact: Willie Spearmon, Director, Office of Housing Assistance and Grant Administration, Department of Housing and Urban Development, 451 Seventh Street, SW., Washington, DC 20410-8000, telephone (202) 708-3000.

• Regulation: 24 CFR 891.165.

Project/Activity: Burbank Accessible Apartments, Burbank, CA, Project Number: 122-HD133/CA16-Q001-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 20, 2004.

Reason Waived: Additional time was needed to secure the building permit, conducted by the city's building department, which resulted in a delay of the issuance of the building permit.

Contact: Willie Spearmon, Director, Office of Housing Assistance and Grant Administration, Department of Housing and Urban Development, 451 Seventh Street, SW., Washington, DC 20410-8000, telephone (202) 708-3000.

• Regulation: 24 CFR 891.165.

Project/Activity: The Center on Halsted, Chicago, IL, Project Number: 071-HD122/IL06-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 20, 2004.

Reason Waived: Additional time was needed to seek additional financing.

Contact: Willie Spearmon, Director, Office of Housing Assistance and Grant Administration, Department of Housing and Urban Development, 451 Seventh Street, SW., Washington, DC 20410-8000, telephone (202) 708-3000.

• Regulation: 24 CFR 891.165.

Project/Activity: Northwood Elderly Housing, Northwood, NH, Project Number: 024-EE064/NH36-S011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 26, 2004.

Reason Waived: Additional time was needed due to litigation.

Contact: Willie Spearmon, Director, Office of Housing Assistance and Grant Administration, Department of Housing and Urban Development, 451 Seventh Street, SW., Washington, DC 20410-8000, telephone (202) 708-3000.

• Regulation: 24 CFR 891.165.

Project/Activity: Walter Riley Davis Senior Complex, Milwaukee, WI, Project Number: 075-EE115/WI39-S021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 26, 2004.

Reason Waived: Additional time was needed for the Owner to cure deficiencies in and for HUD to review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Winchester Senior Housing, Elko, NV, Project Number: 125-EE118/NV25-S001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 26, 2004.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Community Hope VI Consumer Home, Roxbury, NJ, Project Number: 031-HD128/NJ39-Q011-007.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 27, 2004.

Reason Waived: Additional time was needed to review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Fairham Homes (AKA Hamilton Plaza), Middletown, OH, Project Number: 046-HD025/OH10-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 27, 2004.

Reason Waived: Additional time was needed for the owner to cure deficiencies in the firm commitment appication and for the project to be initially closed.

Contact: Willie Spearmon, Director, Office of Housing Assistance and Grant Administration, Department of Housing and Urban Development, 451 Seventh Street, SW., Washington, DC 20410-8000, telephone (202) 708-3000.

• Regulation: 24 CFR 891.165.

Project/Activity: Harmony Village Apartments, Detroit, MI, Project Number: 044-EE076/MI28-S011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 27, 2004.

Reason Waived: Additional time was needed to review the closing documents.

Contact: Willie Spearmon, Director, Office of Housing Assistance and Grant Administration, Department of Housing and Urban Development, 451 Seventh Street, SW., Washington, DC 20410-8000, telephone (202) 708-3000.

• Regulation: 24 CFR 891.165.

Project/Activity: PSCH—Ozone Park Residence, Ozone Park, NY, Project Number: 012-HD100/NY36-Q001-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: June 2, 2004.

Reason Waived: Additional time was needed to finalize closing documents.

Contact: Willie Spearmon, Director, Office of Housing Assistance and Grant Administration, Department of Housing and Urban Development, 451 Seventh Street, SW., Washington, DC 20410-8000, telephone (202) 708-3000.

• Regulation: 24 CFR 891.165.

Project/Activity: Sherman Apartments, Aurora, IL, Project Number: 071-HD121/IL06-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: June 7, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Christian Life Retirement Center V, Elgin, IL, Project Number: 071-EE165/IL06-S011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: June 15, 2004.

Reason Waived: Additional time was needed due to a change of site.

Contact: Willie Spearmon, Director, Office of Housing Assistance and Grant Administration, Department of Housing and Urban Development, 451 Seventh Street, SW., Washington, DC 20410-8000, telephone (202) 708-3000.

• Regulation: 24 CFR 891.165.

Project/Activity: SHDC No. 3—Kamaoa Road Group Home, Na'alehu, HI, Project Number: 140-HD024/HI10-Q001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: June 16, 2004.

Reason Waived: Additional time was needed for the sponsor to seek additional financing sources.

Contact: Willie Spearmon, Director, Office of Housing Assistance and Grant Administration, Department of Housing and Urban Development, 451 Seventh Street, SW., Washington, DC 20410-8000, telephone (202) 708-3000.

• Regulation: 24 CFR 891.165.

Project/Activity: Peaks Island VOA Elderly Housing, Peaks Island, ME, Project Number: 024-EE058/ME36-S011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: June 29, 2004.

Reason Waived: Additional time is needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Harvard Square, Irvine, CA, Project Number: 143-HD011/CA43-Q001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: May 27, 2004.

Reason Waived: Additional time was needed to resolve funding issues.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: NCR of Harborcreek, Harborcreek, PA, Project Number: 033-E015/PA28-S001-003.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 1, 2004.

Reason Waived: The project is economically designed and comparable to other similar projects in the area, and the sponsor exhausted all efforts to obtain additional funding from other sources. Also, additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Tremont Terrace, Ft. Worth, TX, Project Number: 113-HD018/TX21-Q001-001.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 2, 2004.

Reason Waived: The project is economically designed and comparable to similar projects in the area, and the sponsor exhausted all efforts to obtain additional funding from other sources. Also, additional time was needed to work with the company that has receivership of the adjacent property to obtain easement rights, and to work with the City of Fort Worth's attorney about the plat issues and correct language for the easement.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Grand Street Settlement Senior Housing, New York, NY, Project Number: 012-EE279/NY36-S991-019.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 8, 2004.

Reason Waived: The project is economically designed and comparable in cost to similar projects in the area. The sponsor exhausted all efforts to obtain additional funding from other sources and additional time was needed to process the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: La Casa de Felicidad, Bronx, NY, Project Number: 012-EE271/NY36-S991-011.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 20, 2004.

Reason Waived: The project is economically designed and comparable in cost to similar projects in the area.The sponsor exhausted all efforts to obtain additional funding from other sources and additional time was needed to review the initial closing documents.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Woodlands Supportive Housing, The Woodlands, TX, Project Number: 114-HD020/TX24-Q011-002.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 20, 2004.

Reason Waived: The project is economically designed and comparable in cost to similar projects in the area. The sponsor exhausted all efforts to obtain additional funding from other sources and and additional time was needed to issue a firm commitment and prepare for final closing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Spruce Landing, Kansas City, MO, Project Number: 084-HD036/MO16-Q011-001.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 28, 2004.

Reason Waived: The project is economically designed and comparable to other similar projects in the area. The sponsor exhausted all efforts to obtain additional funding from other sources and additional time was needed during the platting of the site.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Unity Gardens Senior Apartments, Windham, ME, Project Number: 024-EE053/ME36-S001-001.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: April 30, 2004.

Reason Waived: The project is economically designed and comparable to other similar projects developed in the area, and the sponsor exhausted all efforts to obtain additional funding from other sources. Also, the project encountered delays due to the processing requirements of the Maine State Housing Authority and the various layers of funding involved in the project development.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: South Hampton Road, Amesbury, MA, Project Number: 023-HD179/MA06-Q011-007.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: May 14, 2004.

Reason Waived: The project is economically designed and comparable to other similar projects developed in the area. The sponsor exhausted all efforts to obtain additional funding from other sources and additional time was needed to secure a new site.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Proctor Avenue Residence, Revere, MA, Project Number: 023-HD153/MA06-Q991-001.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: May 19, 2004.

Reason Waived: The project is economically designed and comparable in cost to similar projects in the area. The sponsor exhausted all efforts to obtain additional funding from outside sources. Also, the project was delayed due to an identity of interest involving the architect and the original general contractor, and the project's development director had to be replaced.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Westland Terrace Program, Haverhill, MA, Project Number: 023-HD163/MA06-Q001-001.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: May 20, 2004.

Reason Waived: The project is economically designed and comparable in cost to other similar projects in the area. The sponsor exhausted all efforts to obtain additional funding from other sources and additional time was needed to secure a different consultant and general contractor.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Woodside Village V, Oak Bluffs, MA, Project Number: 023-EE138/MA06-S011-010.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: June 15, 2004.

Reason Waived: The project is economically designed and comparable in cost to similar projects in the area. The sponsor exhausted all efforts to obtain additional funding from other sources and additional time was needed to issue the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Woodside Village IV, Oak Bluffs, MA, Project Number: 023-EE119/MA06-S001-004.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: June 16, 2004.

Reason Waived: The project is economically designed, comparable in cost to similar projects developed in the area, and the sponsor exhausted all efforts to obtain additional funding from other sources and additional time was needed to issue the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Sycamore Place II Senior Apartments, Brentwood, CA, Project Number: 121-EE154/CA39-S011-014.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: June 22, 2004.

Reason Waived: The project is economically designed and comparable to other similar projects in the area. The sponsor exhausted all efforts to obtain additional funding from other sources and additional time was needed to issue the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: PSCH-Cypressx Housing, Queens, NY, Project Number: 012-HD088/NY36-Q98-009.

Nature of Requirement: Section 891.100(d) prohibits amendment of the amount of the approved capital advance funds prior to initial closing. Section 891.165 provides that the duration of the fund reservation of the capital advance is 24 months.

Granted by: John C. Weicher, Assistant Secretary for Housing—Federal Housing Commissioner.

Date Granted: June 30, 2004.

Reason Waived: The project is economically designed and comparable in cost to similar projects in the area. The sponsor exhausted all efforts to obtain additional funding from other sources, and additional project cost was associated with an increase in the cost of construction and Davis-Bacon wage rates. Also, additional time was needed to complete the closing documents.

Contact: Willie Spearmon, Director, Office of Housing Assistance and Grant Administration, Department of Housing and Urban Development, 451 Seventh Street, SW., Washington, DC 20410-8000, telephone (202) 708-3000.

• Regulation: 24 CFR 891.205.

Project/Activity: Immanuel Courtyard IV, Omaha, NE, Project Number: 103-EE029/NE26-S301-001.

Nature of Requirement: Section 891.205 requires Section 202 project owners to have tax-exempt status under section 501(c)(3) or (c)(4) of the Internal Revenue Code prior to initial closing.

Granted by: John C. Weicher, Assistant Secretary for Housing—Federal Housing Commissioner.

Date Granted: April 20, 2004.

Reason Waived: The sponsor proposed to physically attach the subject project to other, previously funded projects, which would permit the subject project to share in the existing community space.

Contact: Willie Spearmon, Director, Office of Housing Assistance and Grant Administration, Department of Housing and Urban Development, 451 Seventh Street, SW., Washington, DC 20410-8000, telephone (202) 708-3000.

• Regulation: 24 CFR 891.410(c).

Project/Activity: Harford Village, Harford, PA, Project Number: 034-EE075.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: March 17, 2004.

Reason Waived: The project is located in a rural section of northern Pennsylvania. Over a 24-month period, the property reflected only six months with 100 percent occupancy, and the owner anticipated two additional vacancies within the next month. Further, the occupancy level would not support the complex and, without the waiver, early mortgage default was considered certain.

Contact: Beverly J. Miller, Director, Office of Asset Management, Department of Housing and Urban Development, 451 Seventh Street, SW., Washington, DC 20410-7000, telephone (202) 708-3730.

• Regulation: 24 CFR 891.410(c).

Project/Activity: John Davis Manor Apartments, Patterson, AR, Project Number: 082-EE096.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: June 15, 2004.

Reason Waived: The owner had difficulty in renting the project's units. The waiver helped alleviate occupancy and financial problems at the project.

Contact: Beverly J. Miller, Director, Office of Asset Management, Department of Housing and Urban Development, 451 Seventh Street, SW., Washington, DC 20410-7000, telephone (202) 708-3730, extension 2598.

• Regulation: 24 CFR 891.410(c).

Project/Activity: River Cliff Manor, Inc., Judsonia, AR, Project Number: 082-EE108.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: June 15, 2004.

Reason Waived: The owner had difficulty in renting the project's units. The waiver helped alleviate occupancy and financial problems at the project.

Contact: Beverly J. Miller, Director, Office of Asset Management, Department of Housing and Urban Development, 451 Seventh Street, SW., Washington, DC 20410-7000, telephone (202) 708-3730.

• Regulation: 24 CFR 891.410(c).

Project/Activity: Aspen Grove Apartments, Hines, OR, Project Number: 126-EE040.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: June 16, 2004.

Reason Waived: The owner had difficulty renting the project's units. The waiver helped alleviate occupancy and financial problems at the project.

Contact: Beverly J. Miller, Director, Office of Asset Management, Department of Housing and Urban Development, 451 Seventh Street, SW., Washington, DC 20410-7000, telephone (202) 708-3730.

IV. Regulatory Waivers Granted by the Office of Public and Indian Housing

For further information about the following regulatory waivers, please see the name of the contact person that immediately follows the description of the waiver granted.

• Regulation: 24 CFR 941.610(a)(1)-(a)(7).

Project/Activity: Roberts Village-Bowling Green, phase III rental, called Marshall Manor III and Bowling Green III, HOPE VI Project A36URD006I100, Norfolk, VA.

Nature of Requirement: Section 941.610(a)(1)-(a)(7) requires that HUD review and approve certain legal documents and evidentiary materials relating to mixed-finance development before closing can take place and funds can be released.

Granted by: Michael Liu, Assistant Secretary for Public and Indian Housing.

Date Granted: June 14, 2004.

Reason Waived: The waiver was approved in order to streamline the review and approval process, to reduce duplicate review, and to expedite closing. The waiver was approved because (1) the Norfolk Redevelopment and Housing Authority (NRHA) will submit documentation which certifies to the accuracy and authenticity of the subject evidentiary materials, (2) NRHA is a high performing housing authority with extensive affordable housing development and mixed-finance experience, (3) the subject mixed-finance development involves Low Income Housing Tax Credits, Federal Home Loan Bank Affordable Housing Program funds, and Norfolk City development funds, all of which have extensive review and financial control mechanisms and, (4) Marshall Manor III and Bowling Green III are near duplicates of Marshall Manor II and Bowling Green II, which were reviewed and approved by HUD and which have the same developer, the same investor, and the same financial structure.

Contact: Milan Ozdinec, Deputy Assistant Secretary for the Office of Public Housing Investments, Department of Housing and Urban Development, 451 Seventh Street, SW., Washington, DC 20510-5000, telephone (202) 401-8812.

• Regulation: 24 CFR 941.606(n)(1)(ii)(B).

Project/Activity: Woodbridge Senior Enhanced (formerly Jeffries Homes) HOPE VI Project MI28URD001I194/Detroit, MI.

Nature of Requirement: This regulatory section requires that if the partner or owner entity or any other entity with an identity of interest with such parties wants to serve as a general contractor for the project or development, it may award itself the construction contract only if it can demonstrate to HUD's satisfaction that its bid is the lowest submitted in response to a public request for bids.

Granted by: Michael Liu, Assistant Secretary for Public and Indian Housing.

Date Granted: June 25, 2004.

Reason Waived: The waiver was approved in order for Damone Construction to complete the Senior Enhanced Apartments. The Detroit Housing Authority (DHC) submitted an independent third party cost estimate for the work to be performed by Damone Construction, which totaled $11,046,371.48. DHC also submitted the construction contract with Damone Construction, which totaled $10,602,057.20, thus satisfying HUD's condition that the construction contract is less than or equal to the independent cost estimate.

Contact: Milan Ozdinec, Deputy Assistant Secretary for the Office of Public Housing Investments, Department of Housing and Urban Development, 451 Seventh Street, SW., Washington, DC 20510-5000, telephone (202) 401-8812.

• Regulation: 24 CFR 982.505(d).

Project/Activity: Burlington Housing Authority (BHA), Burlington, VT. The BHA requested a special exception payment standard that exceeds 120 percent of the fair market rent as a reasonable accommodation for a housing choice voucher participant who suffers from severe neck and spinal injuries.

Nature of Requirement: Section 982.505(d) allows a PHA to approve a higher payment standard within the basic range for a family that includes a person with a disability as a reasonable accommodation in accordance with 24 CFR part 8.

Granted by: Michael Liu, Assistant Secretary for Public and Indian Housing.

Date Granted: April 29, 2004.

Reason Waived: Approval of the waiver was granted to allow a disabled housing choice voucher participant and his family to continue to live in the 3-bedroom house that they rented before he became disabled and could no longer work.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3) and 983.3(a)(2).

Project/Activity: San Francisco Housing Authority (SFHA), San Francisco, CA. The SFHA requested a waiver of a selection preference regulation in order to select Housing Opportunities for Persons with AIDS (HOPWA) eligible families to occupy seven units that will receive PBA at Mission Creek Apartments and a waiver regarding the availability of vouchers for project-based assistance so that it could enter into an agreement to enter into a housing assistance payments contract (AHAP) for the same project.

Nature of Requirement: Section 982.207(b)(3), which governs tenant selection under the project-based voucher program, states that a housing agency may adopt a preference for admission of families that include a person with disabilities, but may not adopt a preference for persons with a specific disability. Section 983.3(a)(2) requires that the number of units to be project-based must not be under a tenant-based or project based housing assistance payments (HAP) contract or otherwise committed, e.g., vouchers issued to families searching for housing or units under an AHAP.

Granted by: Michael Liu, Assistant Secretary for Public and Indian Housing.

Date Granted: April 12, 2004.

Reason Waived: Approval to waive selection preference requirements was granted since seven units in this project were developed with HOPWA funds and none will receive rental or operating subsidy under the HOPWA program. Since by law persons with HIV/AIDS only may occupy units developed with HOPWA funds, a public housing agency may only authorize occupancy of such units that also receive PBA by persons with HIV/AIDS. The requirement to have vouchers available at the time of execution of an AHAP was waived since the SFHA reported that it had a turnover of approximately 23 vouchers per month. That coupled with the 97 available vouchers at the time of the waiver request indicated that the SFHA would have sufficient voucher unit months to meet its contractual obligation for 88 units at Mission Creek Apartments when the housing assistance payments contract is executed in September 2005.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.151(c).

Project/Activity: San Francisco Housing Authority (SFHA), San Francisco, CA. The SFHA requested a waiver of the regulation so that it could renew a project-based certificate (PBC) housing assistance payments (HAP) contract for the 381 Turk Street project beyond the expiration date of the Annual Contributions Contract (ACC) since funding increments are only renewed for three-month periods.

Nature of Requirement: 24 CFR 983.151(c) requires that, with HUD field office approval, and at the sole option of the public housing agency (PHA), PHAs may renew expiring HAP contracts for such period or periods as the HUD field office determines appropriate to achieve long-term affordability of the assisted housing, provided that the term does not extend beyond the ACC expiration date for the funding source. PHAs must identify the funding source for renewals. Different funding sources may be used for the initial term and renewal terms of the HAP contract.

Granted by: Michael Liu, Assistant Secretary for Public and Indian Housing.

Date Granted: June 28, 2004.

Reason Waived: Approval was granted to allow the SFHA to provide rental assistance at this facility up to the maximum 15 years allowed under the PBC HAP contract without having to request HUD field office approval to do so every three months.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c) and Section II.E. of the January 16, 2001, Federal Register Notice, Revisions to PHA Project-Based Assistance (PBA) Program; Initial Guidance (Initial Guidance).

Project/Activity: East St. Louis Housing Authority (ESLHA), East St. Louis, IL. The ESLHA requested a waiver of competitive selection of owner proposals and deconcentration requirements to permit it to attach PBA to nine units at Central City Apartments.

Nature of Requirement: Section 983.51(a), (b) and (c) require competitive selection of owner proposals in accordance with a housing authority's HUD-approved advertisement and unit selection policy. Section II.E. of the Initial Guidance requires that in order to meet the Department's goal of deconcentration and expanding housing and economic opportunities, the projects must be in census tracts with poverty rates of less than 20 percent.

Granted by: Michael Liu, Assistant Secretary for Public and Indian Housing.

Date Granted: June 28, 2004.

Reason Waived: Approval to waive competitive selection was granted for this project since it underwent a competitive process and was awarded Low Income Housing Tax Credits through the Illinois Housing Development Authority. An exception to the deconcentration requirements was granted since the Emerson Park neighborhood, in which the project will be located, has been targeted for redevelopment by the city and private investors. The Pfizer/Elemetus Company has built a $2.5 million office complex for regional staff. The Metro Link light rail system has developed two stations containing retail and small businesses. The Emerson Park Development Corporation recently broke ground for 12 new for-sale single-family market rate units priced between $140,000 and $180,000. There has been a significant decrease in the poverty rate of the census tract over a 10-year period and the housing and commercial activities described above are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c).

Project/Activity: Brainerd Housing Authority (BHA), St. Cloud, MN. The BHA requested a waiver of competitive selection of owner proposals to permit it to attach project-based voucher assistance to 6 units at Timberland Townhomes.

Nature of Requirement: Section 983.51(a), (b), and (c) requires competitive selection of owner proposals in accordance with a housing authority's HUD-approved advertisement and unit selection policy. Section 983.56(c) requires that when the housing agency administering the ACC from which project-based assistance will be provided submits an application, it must then submit all owner applications in response to the advertisement to the HUD field office for review and selection.

Granted by: Michael Liu, Assistant Secretary for Public and Indian Housing.

Date Granted: June 28, 2004.

Reason Waived: Approval to waive competitive selection was granted for this project since it underwent a competitive process and was awarded Low Income Housing Tax Credits through the Minnesota Housing Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c) and 983.56(c).

Project/Activity: Housing Authority of the City of Tampa (HACT), Tampa, FL. The HACT requested a waiver of competitive selection of owner proposals to permit it to attach project-based voucher assistance to 54 units at Gardens at South Bay.

Nature of Requirement: Section 983.51(a) and (b) requires competitive selection of owner proposals in accordance with a housing authority's HUD-approved advertisement and unit selection policy. Section 983.56(c) requires that when the housing agency administering the ACC from which project-based assistance will be provided submits an application, it must then submit all owner applications in response to the advertisement to the HUD field office for review and selection.

Granted by: Michael Liu, Assistant Secretary for Public and Indian Housing.

Date Granted: June 10, 2004.

Reason Waived: Approval to waive competitive selection was granted for this project since the project underwent a competitive process and was awarded bond financing through the Hillsborough County Finance Authority.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.E. and Section II.F. of the January 16, 2001, Federal Register Notice, Revisions to PHA Project-Based Assistance (PBA) Program Initial Guidance (Initial Guidance).

Project/Activity: Minneapolis Public Housing Authority (MPHA), Minneapolis, MN. The MPHA requested exceptions to the Initial Guidance since Lindquist Apartments is located in a census tract with a poverty rate of 37.1 percent and 10 of the 26 units in the building would have PBA attached.

Nature of Requirement: Section II.E. of the Initial Guidance requires that in order to meet the Department's goal of deconcentration and expanding housing and economic opportunities, the projects must be in census tracts with poverty rates of less than 20 percent. Section II.F. requires that no more than 25 percent of the dwelling units in any building may be assisted under a housing assistance payments (HAP) contract for PBA except for dwelling units that are specifically made available for elderly families, disabled families and families receiving supportive services. Until regulations are promulgated regarding the category of families receiving supportive services, HUD Headquarters has been authorizing implementation of this aspect of the law on a case-by-case basis.

Granted by: Michael Liu, Assistant Secretary for Public and Indian Housing.

Date Granted: June 7, 2004.

Reason Waived: Approval of the exception for deconcentration was granted since the site of Lindquist Apartments is one block north of the city of Minneapolis' designated Empowerment Zone and should derive its benefits. The purpose of establishing empowerment zones is to open new businesses, and create jobs, housing, and new educational and healthcare opportunities for thousands of Americans. These goals are consistent with the goal of deconcentrating poverty and expanding housing and economic opportunities. Approval of the exception to exceed the 25 percent cap on the number of units in a building that can have PBA attached was granted since RS Eden will provide self-sufficiency services. Each resident will be assigned a case manager who will assist the resident in meeting the productivity goal of school or work, maintaining housing and addressing personal or family issues. There will be on-site workshops and a computer resource room available. The supportive services are consistent with the statute.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51.

Project/Activity: Housing Commission of Anne Arundel County (HCAAC), Glen Burnie, MD. The HCAAC requested a waiver of competitive selection of owner proposals under the project-based program for the Wiley H. Bates project.

Nature of Requirement: Section 983.51 requires competitive selection of owner proposals in accordance with a housing authority's HUD-approved advertisement and unit selection policy.

Granted by: Michael Liu, Assistant Secretary for Public and Indian Housing.

Date Granted: June 4, 2004.

Reason Waived: Approval to waive competitive selection was granted for the Wiley H. Bates project since the project had undergone a previous federal competition. The project was awarded $818,642 in Low Income Housing Tax Credits through the Maryland Department of Housing and Community Development.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c).

Project/Activity: Itasca County Housing and Redevelopment Authority (ICHRA), Grand Rapids, MN. The ICHRA requested a waiver of competitive selection of owner proposals to permit it to attach project-based voucher assistance to 5 units at Oakwood Terrace III.

Nature of Requirement: Section 983.51(a), (b) requires competitive selection of owner proposals in accordance with a housing authority's HUD-approved advertisement and unit selection policy and § 983.56(c) requires that when the housing agency administering the ACC from which project-based assistance will be provided submits an application, it must then submit all owner applications in response to the advertisement to the HUD field office for review and selection.

Granted by: Michael Liu, Assistant Secretary for Public and Indian Housing.

Date Granted: June 4, 2004.

Reason Waived: Approval to waive competitive selection was granted for this project since it underwent a competitive process and was awarded Low Income Housing Tax Credits through the Minnesota Housing Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c).

Project/Activity: Mankato Economic Development Agency (MEDA), Mankato, MN. The MEDA requested a waiver of competitive selection of owner proposals to permit it to attach project-based voucher assistance to five units at Dublin Road Townhomes.

Nature of Requirement: Section 983.51(a), (b) requires competitive selection of owner proposals in accordance with a housing authority's HUD-approved advertisement and unit selection policy and § 983.56(c) requires that when a the housing agency administering the ACC from which project-based assistance will be provided submits an application, it must then submit all owner applications in response to the advertisement to the HUD field office for review and selection.

Granted by: Michael Liu, Assistant Secretary for Public and Indian Housing.

Date Granted: June 4, 2004.

Reason Waived: Approval to waive competitive selection was granted for this project since it underwent a competitive process and was awarded Low Income Housing Tax Credits through the Minnesota Housing Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.E. of the January 16, 2001, Federal Register Notice, Revisions to PHA Project-Based Assistance (PBA) Program; Initial Guidance (Initial Guidance).

Project/Activity: Chicago Housing Authority (CHA), Chicago, IL. The CHA requested an exception to the Initial Guidance since Leland Apartments is located in a census tract with a poverty rate of 23.4 percent.

Nature of Requirement: Section II.E. of the Initial Guidance requires that in order to meet the Department's goal of deconcentration and expanding housing and economic opportunities, the projects must be in census tracts with poverty rates of less than 20 percent.

Granted by: Michael Liu, Assistant Secretary for Public and Indian Housing.

Date Granted: June 1, 2004.

Reason Waived: Approval of the exception for deconcentration was granted since the project is located in the Broadway-Lawrence Tax Increment Financing (TIF) District. These districts are part of an initiative used by local government to promote economic development by providing incentives for businesses and residents to improve communities. Leland Apartments was allocated $2,010,000 in TIF funds. Economic activity in this TIF district included a new Borders Book Store and a new Starbucks. Residential development included two condominium developments of 40 and 37 units, respectively, that have a combination of market rate and affordable for sale units. The decrease in the poverty rate of the census tract over a ten-year period and the housing and commercial activities are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c).

Project/Activity: Clay County Housing and Redevelopment Authority (CCHRA) and Moorhead Public Housing Agency (MPHA), Clay County, MN. The CCHRA and MPHA jointly requested a waiver of competitive selection of owner proposals to permit them to attach project-based voucher assistance to a combined 38-unit project (an 8-unit of supportive housing project and a 30-unit town house project).

Nature of Requirement: Section 983.51(a) and (b) requires competitive selection of owner proposals in accordance with a housing authority's HUD-approved advertisement and unit selection policy, and Section 983.51(a) requires that when a the housing agency administering the ACC from which project-based assistance will be provided submits an application, it must then submit all owner applications in response to the advertisement to the HUD field office for review and selection.

Granted by: Michael Liu, Assistant Secretary for Public and Indian Housing.

Date Granted: April 29, 2004.

Reason Waived: Approval to waive competitive selection was granted for this project since the combined 38-unit project underwent a competitive process and was awarded Low Income Housing Tax Credits through the Minnesota Housing Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.E. of the January 16, 2001, Federal Register Notice, Revisions to PHA Project-Based Assistance (PBA) Program; Initial Guidance (Initial Guidance).

Project/Activity: Albany Housing Authority (AHA), Albany, NY. The AHA requested an exception to the Initial Guidance since Creighton Storey Homes is located in a census tract with a poverty rate of 26 percent.

Nature of Requirement: Section II.E. of the Initial Guidance requires that in order to meet the Department's goal of deconcentration and expanding housing and economic opportunities, the projects must be in census tracts with poverty rates of less than 20 percent.

Granted by: Michael Liu, Assistant Secretary for Public and Indian Housing.

Date Granted: April 15, 2004.

Reason Waived: Approval of the exception for deconcentration was granted since the project is located in an area designated as the South End Revitalization Plan. Over $69 million of development activity financed by the Department has taken place in the past two years or is currently underway. Some of these activities include the reconstruction of South Pearl Street, the renovation of Lincoln Park Pool, the construction of a new parking garage, the demolition of two long-vacant AHA high rises, and the renovation or new construction of over 400 housing units. Approximately two-thirds of the development dollars support non-housing activities. In addition, a new convention center is planned for the downtown area, just a few blocks from the South End that will generate jobs and economic opportunities. These renovation and new development activities are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.F. of the January 16, 2001, Federal Register Notice, Revisions to PHA Project-Based Assistance (PBA) Program; Initial Guidance.

Project/Activity: Malden Housing Authority (MHA), Malden, MA. The requested an exception to the Initial Guidance for the Cross Street Housing Project to permit the MHA to attach PBA to more than 25 percent of the units in the building.

Nature of Requirement: Section II.F. requires that no more than 25 percent of the dwelling units in any building may be assisted under a housing assistance payments (HAP) contract for PBA except for dwelling units that are specifically made available for elderly families, disabled families and families receiving supportive services. Until regulations are promulgated regarding the category of families receiving supportive services, HUD Headquarters is authorizing implementation of this aspect of the law on a case-by-case basis.

Granted by: Michael Liu, Assistant Secretary for Public and Indian Housing.

Date Granted: April 12, 2004.

Reason Waived: Approval to waive the 25 percent cap on the number of units in a building that can have PBA attached was granted for the Cross Street Housing project since the scope of the supportive services focused on economic self-sufficiency and included job-training, pre-employment counseling, linkage with GED classes, as well as linkage to day care for children to support job training and job opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.107(f) and 990.109.

Project/Activity: Akron, OH, Metropolitan Housing Authority. A request was made to permit the Authority to benefit from energy performance contracting for developments that have resident-paid utilities. The housing authority estimated that it could increase energy savings substantially if it were able to undertake energy performance contracting for its resident-paid utilities.

Nature of Requirement: Under 24 CFR part 990, the Operating Fund Formula energy conservation incentive that relates to energy performance contracting currently applies to only PHA-paid utilities. The Akron Metropolitan Housing Authority has resident-paid utilities.

Granted by: Michael Liu, Assistant Secretary for Public and Indian Housing.

Date Granted: April 5, 2004.

Reason Waived: In September 1996, the Oakland Housing Authority was granted a waiver to permit the authority to benefit from energy performance contracting for developments with resident-paid utilities. The waiver was granted on the basis that the authority presented a sound and reasonable methodology for doing so. The Akron Metropolitan Housing Authority requested a waiver based on the same approved methodology. The waiver would permit the housing authority to exclude from its performance funding system (PFS) calculation of rental income the increased rental income due to the difference between updated baseline utility allowances (before implementation of the energy conservation measures) and revised allowances (after implementation of the measures) for the project(s) involved for the duration of the contract period, which cannot exceed 12 years.

Contact: Chris Kubacki, Director; Attn: Peggy Mangum, extension 3982, Public Housing Financial Management Division, Office of Public and Indian Housing, Real Estate Assessment Center, 1280 Maryland Avenue, SW., Suite 800, Washington, DC 20024-2135, telephone (202) 708-4932.

• Regulation: 24 CFR 990.107(f) and 990.109.

Project/Activity: Brunswick, GA, Housing Authority. A request was made to permit the authority to benefit from energy performance contracting for developments that have resident-paid utilities. The housing authority estimated that it could increase energy savings substantially if it were able to undertake energy performance contracting for its resident-paid utilities.

Nature of Requirement: Under 24 CFR part 990, the Operating Fund Formula energy conservation incentive that relates to energy performance contracting currently applies to only PHA-paid utilities. The Brunswick Housing Authority has resident-paid utilities.

Granted by: Michael Liu, Assistant Secretary for Public and Indian Housing.

Date Granted: April 12, 2004.

Reason Waived: In September 1996, the Oakland Housing Authority was granted a waiver to permit the authority to benefit from energy performance contracting for developments with resident-paid utilities. The waiver was granted on the basis that the authority presented a sound and reasonable methodology for doing so. The Brunswick Housing Authority requested a waiver based on the same approved methodology. The waiver would permit the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, extension 3982, Public Housing Financial Management Division, Office of Public and Indian Housing, Real Estate Assessment Center, 1280 Maryland Avenue, SW., Suite 800, Washington, DC 20024-2135, telephone (202) 708-4932.

• Regulation: 24 CFR 990.107(f) and 990.109.

Project/Activity: Oklahoma City, OK, Housing Authority. A request was made to permit the authority to benefit from energy performance contracting for developments that have resident-paid utilities. The housing authority estimated that it could increase energy savings substantially if it were able to undertake energy performance contracting for its resident-paid utilities.

Nature of Requirement: Under 24 CFR part 990, the Operating Fund Formula energy conservation incentive that relates to energy performance contracting currently applies to only PHA-paid utilities. The Oklahoma City Housing Authority has resident-paid utilities.

Granted by: Michael Liu, Assistant Secretary of Public and Indian Housing.

Date Granted: April 12, 2004.

Reason Waived: In September 1996, the Oakland Housing Authority was granted a waiver to permit the authority to benefit from energy performance contracting for developments with resident-paid utilities. The waiver was granted on the basis that the authority presented a sound and reasonable methodology for doing so. The Oklahoma City Housing Authority requested a waiver based on the same approved methodology. The waiver would permit the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, extension 3982, Public Housing Financial Management Division, Office of Public and Indian Housing, Real Estate Assessment Center, 1280 Maryland Avenue, SW., Suite 800, Washington, DC 20024-2135, telephone (202) 708-4932.

• Regulation: 24 CFR 990.107(f) and 990.109.

Project/Activity: Albuquerque, NM, Housing Authority. A request was made to permit the authority to benefit from energy performance contracting for developments that have resident-paid utilities. The housing authority estimates that it could increase energy savings substantially if it were able to undertake energy performance contracting for its resident-paid utilities.

Nature of Requirement: Under 24 CFR part 990, the Operating Fund Formula energy conservation incentive that relates to energy performance contracting currently applies to only PHA-paid utilities. The Albuquerque Housing Authority has resident-paid utilities.

Granted by: Michael Liu, Assistant Secretary of Public and Indian Housing

Date Granted: April 12, 2004.

Reason Waived: In September 1996, the Oakland Housing Authority was granted a waiver to permit the authority to benefit from energy performance contracting for developments with resident-paid utilities. The waiver was granted on the basis that the authority presented a sound and reasonable methodology for doing so. The Albuquerque Housing Authority requested a waiver based on the same approved methodology. The waiver would permit the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, extension 3982, Public Housing Financial Management Division, Office of Public and Indian Housing, Real Estate Assessment Center, 1280 Maryland Avenue, SW., Suite 800, Washington, DC 20024-2135, telephone (202) 708-4932.

• Regulation: 24 CFR 990.107(f) and 990.109.

Project/Activity: Housing Authority of the County of Dauphin, PA. A request was made to permit the authority to benefit from energy performance contracting for developments that have resident-paid utilities. The housing authority estimated that it could increase energy savings substantially if it were able to undertake energy performance contracting for its resident-paid utilities.

Nature of Requirement: Under 24 CFR part 990, the Operating Fund Formula energy conservation incentive that relates to energy performance contracting currently applies to only PHA-paid utilities. The Housing Authority of the County of Dauphin has resident-paid utilities.

Granted by: Michael Liu, Assistant Secretary of Public and Indian Housing

Date Granted: June 14, 2004.

Reason Waived: In September 1996, the Oakland Housing Authority was granted a waiver to permit the authority to benefit from energy performance contracting for developments with resident-paid utilities. The waiver was granted on the basis that the authority presented a sound and reasonable methodology for doing so. The Housing Authority of the County of Dauphin requested a waiver based on the same approved methodology. The waiver would permit the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, extension 3982, Public Housing Financial Management Division, Office of Public and Indian Housing, Real Estate Assessment Center, 1280 Maryland Avenue, SW., Suite 800, Washington, DC 20024-2135, telephone (202) 708-4932.

• Regulation: 24 CFR 990.107(f) and 990.109.

Project/Activity: Housing Authority of the County of Santa Barbara, CA. A request was made to permit the authority to benefit from energy performance contracting for developments that have resident-paid utilities. The housing authority estimated that it could increase energy savings substantially if it were able to undertake energy performance contracting for its resident-paid utilities.

Nature of Requirement: Under 24 CFR part 990, the Operating Fund Formula energy conservation incentive that relates to energy performance contracting currently applies to only PHA-paid utilities. The Housing Authority of the County of Santa Barbara has resident-paid utilities.

Granted by: Michael Liu, Assistant Secretary of Public and Indian Housing.

Date Granted: June 18, 2004.

Reason Waived: In September 1996, the Oakland Housing Authority was granted a waiver to permit the authority to benefit from energy performance contracting for developments with resident-paid utilities. The waiver was granted on the basis that the authority presented a sound and reasonable methodology for doing so. The Housing Authority of the County of Santa Barbara requested a waiver based on the same approved methodology. The waiver would permit the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, extension 3982, Public Housing Financial Management Division, Office of Public and Indian Housing, Real Estate Assessment Center, 1280 Maryland Avenue, SW., Suite 800, Washington, DC 20024-2135, telephone (202) 708-4932.

• Regulation: 24 CFR 1000.312.

Project/Activity: The Hopi Tribal Housing Authority's request that certain U.S. Housing Act of 1937 (1937 Act) units continue to be included as formula current assisted stock (FCAS) under the Indian Housing Block Grant (IHBG) Program after they have been demolished and replaced using non-1937 Act funds.

Nature of Requirement: The regulation at § 1000.312 establishes that current assisted stock consist of housing units owned or operated pursuant to an Annual Contributions Contract (ACC) under management as of September 30, 1997, as indicated in the formula response form (FRF).

Granted by: Michael Liu, Assistant Secretary for Public and Indian Housing.

Date Granted: April 30, 2004.

Reason Waived: The units were found to have structural deficiencies that rendered them unsuitable for habitation and would require extensive remediation before they would meet minimum standards for safe, decent and sanitary housing. The Hopi Tribal Housing Authority indicated that they would enforce with the homebuyers the original terms and conditions of the Mutual Help and Occupancy Agreements (MHOA) once the units have been replaced.

Contact: Deborah Lalancette, Director, Grants Management, Denver Program ONAP, Department of Housing and Urban Development, 1999 Broadway, Suite 3390, Denver, CO 80202, telephone (303) 675-1625.

• Regulation: 24 CFR 1000.312.

Project/Activity: The Kootenai Tribe of Idaho's request that certain U.S. Housing Act of 1937 (1937 Act) units continue to be included as FCAS under the IHBG Program after they have been replaced using non-1937 Act funds.

Nature of Requirement: The regulation at § 1000.312 establishes that current assisted stock consist of housing units owned or operated pursuant to an ACC under management as of September 30, 1997, as indicated in the FRF.

Granted by: Michael Liu, Assistant Secretary for Public and Indian Housing.

Date Granted: April 30, 2004.

Reason Waived: The Kootenai Tribe of Idaho completed two homes of equivalent size and quality for owners that were initially determined not FCAS eligible because they did not met the low-income eligibility requirements of the Native American Housing Assistance and Self-Determination Act (NAHASDA) of 1996. The replacement homes were constructed solely with tribal funds. The Tribe has executed MHOAs with two income-eligible families for the replacement units.

Contact: Deborah Lalancette, Director, Grants Management, Denver Program ONAP, Department of Housing and Urban Development, 1999 Broadway, Suite 3390, Denver, CO 80202-5733, telephone (303) 675-1625.

• Regulation: Section II subpart F of the January 16, 2001, Federal Register Notice, Revisions to PHA Project-Based Assistance (PBA) Program; Initial Guidance.

Project/Activity: Housing Authority of Winston-Salem (HAWS), Winston-Salem, NC. The HAWS requested an exception to the Initial Guidance since 29 of the 72 units in Kimberly Park Terrace III will have PBA attached.

Nature of Requirement: Section II.F. requires that no more than 25 percent of the dwelling units in any building may be assisted under a housing assistance payments (HAP) contract for PBA except for dwelling units that are specifically made available for elderly families, disabled families and families receiving supportive services. Until regulations are promulgated regarding the category of families receiving supportive services, HUD Headquarters has been authorizing implementation of this aspect of the law on a case-by-case basis.

Granted by: Michael Liu, Assistant Secretary for Public and Indian Housing.

Date Granted: June 28, 2004.

Reason Waived: Approval of the exception to exceed the 25 percent cap on the number of units in a building that can have PBA attached was granted since through partnerships developed in conjunction with the development of a HOPE VI Community and Supportive Services plan, the following supportive services were available to all the families living in the development: job training, placement and retention; childcare, education; and transportation. The partners include: Winston-Salem Urban League; Goodwill Industries; Winston-Salem/Forsyth County Workforce Development Board; Northwest Child Development Council; Department of Social Services; Forsyth Technical Community College; Winston-Salem Forsyth County Schools; and Winston-Salem Transit Authority. The supportive services were consistent with the statute.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.E. of the January 16, 2001, Federal Register Notice, Revisions to PHA Project-Based Assistance (PBA) Program; Initial Guidance (Initial Guidance).

Project/Activity: Connecticut Department of Social Services (DSS), Hartford, CT. The DSS requested an exception to the initial guidance for two units in the Riverplace Commons Condominiums located in New Haven, CT. The condominiums are located in a census tract with a poverty rate greater than 20 percent.

Nature of Requirement: Section II.E. of the Initial Guidance requires that in order to meet the Department's goal of deconcentration and expanding housing and economic opportunities, the projects must be in census tracts with poverty rates of less than 20 percent.

Granted by: Michael Liu, Assistant Secretary for Public and Indian Housing.

Date Granted: June 8, 2004.

Reason Waived: Approval of the exception for deconcentration was granted since the area of the city where the units would be located is currently undergoing a tremendous economic redevelopment and revitalization effort. There are several housing initiatives underway in the area. For example, the New Haven Housing Authority is planning to rebuild a public housing project with a $20 million HOPE VI grant. Additionally, a blighted public housing complex has been torn down and plans are underway to develop new housing opportunities. More than $500 million in state and federal funds have been targeted for the Front Street area where the Riverplace Condominiums are located.

The city of New Haven has begun over a dozen urban development projects that will create jobs in the area in which the proposed project-based units will be located. Specifically, the city, acting through its Development Commission, is involved in a comprehensive revitalization program for the neighborhood. The plan proposes the redevelopment of significant vacant land and building spaces for new light industrial and manufacturing uses, and the development of a waterfront park.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II.E. of the January 16, 2001, Federal Register Notice, Revisions to PHA Project-Based Assistance (PBA) Program; Initial Guidance (Initial Guidance).

Project/Activity: Albany Housing Authority (AHA), Albany, NY. The AHA requested an exception to the initial guidance since DePaul Residence is located in a census tract with a poverty rate of 26 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: June 8, 2004.

Reason Waived: Approval of the exception for deconcentration was granted since the project is in a New York State-designated Empire Zone. These zones were created in 1986 to stimulate economic growth. Through a variety of financial incentives and economic development benefits, the program was designed to both help existing businesses expand and attract new businesses from outside the state or new start-up ventures. Toward that end, a $400 million investment by the state of New York and the semi-conduction industry went into the development of SEMATECH NORTH. The facility is located at University of Albany-SUNY that is located two miles from DePaul Residence. It was completed in 2003 and created 500 new jobs. Early in 2004 Governor Pataki announced plans for a new college program at the university that will train Albany residents for jobs at SEMATECH NORTH. The significant investment into the local colleges and their related activities to job creation at the SEMATECH NORTH facility were consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

[FR Doc. 04-24583 Filed 11-3-04; 8:45 am]

BILLING CODE 4210-32-P